ENVIRONMENTAL PROTECTION AGENCY

[EPA-HQ-OECA-2014-0075; FRL-9990-78-OEI]

Information Collection Request Submitted to OMB for Review and Approval; Comment Request; NESHAP for Municipal Solid Waste Landfills (Renewal)

AGENCY: Environmental Protection Agency (EPA).

ACTION: Notice.

SUMMARY: The Environmental Protection Agency (EPA) has submitted an information collection request (ICR), NESHAP for Municipal Solid Waste Landfills (EPA ICR Number 1938.07, OMB Control Number 2060-0505), to the Office of Management and Budget (OMB) for review and approval in accordance with the Paperwork Reduction Act. This is a proposed extension of the ICR, which is currently approved through March 31, 2019. Public comments were previously requested, via the Federal Register, on May 30, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before April 17, 2019.

ADDRESSES: Submit your comments, referencing Docket ID Number EPA-HQ-OECA-2014-0075, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The NESHAP for Municipal Solid Waste Landfills (40 CFR part 63, subpart AAAA) apply to existing and new municipal solid waste (MSW) landfills that have accepted waste since November 8, 1987 or have additional capacity for waste deposition, including those that operate as bioreactors, and the landfill either: (1) Is a major source or is collocated with a major source; or (2) is an area source with a design capacity of 2.5 million megagrams (Mg) and 2.5 million cubic meters (m³), and emits either equal to or greater than 50 tons per year of non-methane organic compounds (NMOC). New facilities include those that commenced construction or reconstruction after the date of proposal.

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to the NESHAP. This information is being collected to assure compliance with 40 CFR part 63, subpart AAAA.

Form Numbers: None.

Respondents/affected entities: Certain existing and new municipal solid waste (MSW) landfills that have accepted waste since November 8, 1987 or have additional capacity for waste deposition.

Respondent's obligation to respond: Mandatory (40 CFR 63, subpart AAAA).

Estimated number of respondents: 1,151 (total).

Frequency of response: Initially, semiannually, and annually.

Total estimated burden: 35,200 hours (per year). Burden is defined at 5 CFR 1320.3(b).

Total estimated cost: $3,170,000 (per year), which includes $10,800 in annualized capital/startup and/or operation & maintenance costs.

Changes in the Estimates: There is a decrease in the number of responses and Capital/O&M costs in this ICR compared to the previous ICR. The change in burden and cost estimates occurred as a result of the 2016 NSPS (40 CFR part 60, subpart XXX) and Emissions Guidelines (40 CFR part 60, subpart Cf). Most of the burden previously attributed to the ICR for subpart AAAA has been accounted for in the 2016 ICRs for subparts XXX (ICR 2498.03, OMB 2060-0697) and Cf (ICR 2522.02, OMB 2060-0720) to avoid duplication of burden for identical requirements. Additionally, the number of responses unique to the subpart AAAA ICR has decreased as a result of improved estimates of the number of landfills subject to control requirements based on data used to support the 2016 ICRs.

There is an increase in the total estimated burden as currently identified in the OMB Inventory of Approved Burdens. This increase is not due to any program changes. There is an increase in the number of labor hours. This is to be consistent with per line item burden assumptions and number of sources subject to certain requirements related ICRs for subparts XXX (ICR 2498.03, OMB 2060-0697) and Cf (ICR 2522.02, OMB 2060-0720), including an increase in the number of new or modified sources. Additionally, labor hours were added to correct for an error which had previously missed the recordkeeping requirements for liquids addition.

Courtney Kerwin,
Director, Regulatory Support Division.

[FR Doc. 2019-05018 Filed 3-15-19; 8:45 am]

BILLING CODE 6560-50-P